ENVIRONMENTAL PROTECTION AGENCY

[FRL-6850-6]

Regulatory Reinvention XL Pilot Projects; Project XL Proposed Final Project Agreement: Kodak Pollution Prevention Project

AGENCY: Environmental Protection Agency (EPA).

ACTION: Notice of availability of the Project XL Proposed Final Project Agreement: Kodak Company Pollution Prevention Project.

SUMMARY: EPA is requesting comments on a proposed Project XL Final Project Agreement (FPA) for the Kodak Company (hereafter “Kodak.”) The FPA is a voluntary agreement developed collaboratively by Kodak and the EPA.

DATES: Comments are due on or before August 28, 2000.

ADDRESSES: All comments on this proposed FPA should be sent to: Janet Murray, EPA Headquarters, Ariel Rios Building, 1200 Pennsylvania Avenue, NW., mail code 1802, Washington DC 20460, or to BillWaugh, EPA Headquarters, Ariel Rios Building, 1200 Pennsylvania Avenue, mail code 7403, Washington DC 20460. Comments may also be faxed to Ms. Murray at (202) 260-3125 or Mr. Waugh at (202) 260-0118. Comments may also be received via e-mail sent to: murray.janet@epa.gov or waugh.bill@epa.gov.

FOR FURTHER INFORMATION CONTACT: To obtain a copy of the proposed FPA, contact: Janet Murray, EPA Headquarters, Ariel Rios Building, 1200 Pennsylvania Avenue, NW., mail code 1802, Washington DC 20460. The FPA and related documents are also available via the Internet at http://www.epa.gov/ProjectXL. Information on the project is also available for viewing at Kodak's Neighborhood Information Center, located on the first floor of Building 28, 200 Ridge Road West, in Rochester, NY 14652-3413. Questions to EPA regarding documents can be directed to Janet Murray at (202) 260-7570. To be included in the Kodak Project XL mailing list for information about future meetings, or XL Progress Reports, contact Janet Murray at (202) 260-7570 or Bill Waugh at (202) 260-3489. Information on other aspects of Project XL, descriptions of other XL projects and proposals, and application information is available via the Internet at http://www.epa.gov/ProjectXL.

SUPPLEMENTARY INFORMATION: Project XL, first announced in the Federal Register on May 23, 1995 (60 FR 27282), gives regulated entities the flexibility to develop alternative strategies that will replace or modify specific regulatory or procedural requirements on the condition that they produce greater environmental benefits. EPA has set a goal of implementing fifty XL projects in full partnership with the states.

The Eastman Kodak Company (Kodak) in partnership with the United States Environmental Protection Agency (EPA) is entering into a Project XL Final Project Agreement (FPA) to pilot the application of and the dissemination of information about the Pollution Prevention Framework (P2 Framework) developed by the EPA Office of Prevention, Pesticides and Toxic Substances (OPPTS).

In the context of this XL Project, Kodak will apply the P2 Framework early in its product development cycle to help identify and develop products and processes that can be sustained both environmentally and economically. Kodak's application of the P2 Framework to its operations will help develop environmentally preferable products, while saving considerable time and money. Kodak believes many other companies can also develop environmentally preferable products by applying OPPT's P2 Framework, especially at the Research and Development stage of product development. As a part of their participation in this XL project, Kodak will receive administrative flexibility in the form of a shortened pre-manufacture review period (from 90 days to 45) for those new chemicals developed under the P2 Framework and submitted to the Agency for approval.

The EPA Office of Prevention, Pesticides and Toxic Substances (OPPTS) has developed a set of computerized risk screening tools which have the potential to significantly advance EPA's pollution prevention objectives by allowing companies to calculate or estimate important risk-related properties based on an analysis of chemical structure. OPPTS uses these tools in the P2 Framework to evaluate new chemicals when test data are lacking. OPPTS is also making these tools in the P2 Framework available to industry and demonstrating how they could be used to design safer chemicals, reduce waste generation, and identify other P2 opportunities. Kodak will pilot the application of and the dissemination of information about the P2 Framework under the Project XL Agreement.

The Agency encourages chemical manufacturers to incorporate health and environmental issues into product decision making during the development of new chemical substances. EPA has several ongoing initiatives intended to help stakeholders better assess risk issues during the early stages of chemical development efforts. Examples include the Design for Environment Program, the Green Chemistry Program, and the P2 Framework, among other programs. Of specific relevance to the Kodak XL Final Project Agreement is the P2 Framework as utilized in the development of safer new chemicals submitted as Premanufacture Notices (PMNs) under section 5 of the Toxic Substances Control Act (TSCA).

The P2 Framework is a set of computer models that predict risk-related properties of chemicals using structure activity relationships (SARs) and standard (default) scenarios. These models have been developed over a 20-year period by EPA's Office of Pollution Prevention and Toxics to screen new chemicals in the absence of data. Annually, EPA evaluates over 2,000 new chemicals submitted under section 5 of TSCA. TSCA requires that EPA evaluate the chemicals within 90 days, however the law does not require that the submitter conduct laboratory tests to evaluate the potential hazard and risk of the chemicals. Operating under this time limitation, and often without complete data, EPA has developed methods to quickly screen chemicals in the absence of data.

The P2 Framework Models capture the expertise of multiple EPA scientists, grantees, support contractors, and others in the scientific community, who have worked for over 20 years screening chemicals in the absence of data. The P2 Framework Project presents these 18 models to industry with the hope that the models will be useful in identifying potential problem chemicals and processes early in the research and development process.

The Framework, as currently constructed, does not address all biological endpoints. It is a screening-level methodology that is of most value when chemical-specific data are lacking. By using the P2 Framework early-on in product development, Kodak expects to submit pre-manufacture notices (PMNs) to EPA on new chemicals that will foster the development of new, greener products and emphasize P2 through source reduction. Kodak would then receive Project XL flexibility to manufacture PMN chemicals in 45 days as opposed to the current 90 day review period. The 45-day period would only be available for chemicals for which EPA has no further concerns. At day 20-25 of the 90 day review period, the Agency concludes its evaluation of chemicals it has determined to be low risk.

As part of their participation in this project, Kodak will not only institute full usage of the P2 Framework at its facilities, but will also conduct a series of innovative actions to help demonstrate to other stakeholders how the P2 Framework can help to develop products that are both environmentally and economically sustainable. Kodak will complete three separate and independent initiatives beyond its own use of the P2 Framework, in which they will address the scientific community, the business community, and upper level management within selected companies. Each of these three initiatives is designed to make other industrial stakeholders aware of the source reduction, pollution prevention and economic benefits that flow from use of the P2 Framework.

The P2 Framework allows companies to improve the environmental performance (i.e., lower health hazard, lower environmental hazard, or lower exposure potential) of products, reduce costs, decrease potential liability, and improve market share, resulting in a significant competitive advantage. Companies can improve the environmental performance of their products by using the P2 Framework to pre-screen their product development options.

The public comment period on this project will be 14 days.

Dated: August 8, 2000.
Elizabeth Shaw,
Director, Office of Environmental Policy Innovation.

[FR Doc. 00-20536 Filed 8-11-00; 8:45 am]

BILLING CODE 6560-50-U